DEPARTMENT OF LABOR

Bureau of Labor Statistics

Comment Request

AGENCY: Bureau of Labor Statistics, Labor.

ACTION: Notice of solicitation of comments.

SUMMARY: In 2009, the Consumer Expenditure Surveys Division started the Gemini Project for the purpose of researching, developing, and implementing an improved survey design for the Consumer Expenditure Survey (CE). The objective of the redesign is to improve the quality of the survey estimates through a verifiable reduction in measurement error, with a particular focus on underreporting. While reducing measurement error, the new survey design would also combat the decline in response rates seen in recent years. In June 2013, a comprehensive redesign proposal was completed. As development, testing, and evaluation of the new CE survey proceeds, BLS would like feedback on the new survey design and the data that would be available from the survey from current data users and other interested parties.

DATES: Written comments must be submitted to the office listed in the ADDRESSES section of this notice on or before April 1, 2014.

ADDRESSES: Send comments to Bill Passero, Division of Consumer Expenditure Surveys, Bureau of Labor Statistics, Room 3985, 2 Massachusetts Avenue NE., Washington, DC 20212 or by email to: GeminiOutreach@bls.gov.

FOR FURTHER INFORMATION CONTACT: Bill Passero, Division of Consumer Expenditure Surveys, Bureau of Labor Statistics, telephone number 202-691-5126 (this is not a toll-free number), or by email to: GeminiOutreach@bls.gov.

SUPPLEMENTARY INFORMATION:

I. Background

The proposed CE redesign includes two waves of data collection set 12 months apart. Each wave contains the same interview structure consisting of two visits and a 1-week diary. Visit 1 is an in-person interview made up of two parts. The first part identifies the roster of the household, while the second is a recall interview that collects large, easily-recalled household expenditures. Additionally, Visit 1 incorporates instructions to collect relevant expenditure records for the Visit 2 records-based interview, as well as training for and placement of the electronic, individual diaries. Following Visit 1, an electronic web-based diary (accessible via PC, smartphone, or other mobile device) is maintained for one week by each household member 15 years old and older. Visit 2 is an in-person, records-based interview on household expenditures that can reasonably be found in records such as receipts, utility bills, and bank statements.

Incentives are provided to respondents to encourage participation in the CE. The proposed incentive structure for the new design includes a $2 prepaid cash incentive per household sent with an advance letter, a $20 household incentive (debit card) provided after Visit 1, a $20 individual incentive (debit card) for each member who completes the diary, and a $20 or $30 household incentive (debit card) after Visit 2. Pending further research and discussion, the Visit 1 $20 household incentive may be provided with the advance letter and activated upon completion of the Visit 1 interview.

With this redesign, the CE aims to create a survey that uses technology to encourage real-time data capture, individual diaries to reduce proxy reporting, shortened interview length to reduce respondent burden, record use to improve data quality, and incentives to address respondent motivation.

II. Further Information

For further information about the proposed new CE design, please visit http://www.bls.gov/cex/geminiproject.htm. This Web page provides information on the history of the Gemini project, including vision and scope, an overview of the redesign, and links to presentations and papers related to the redesign.

III. Desired Focus of Comments

Comments and recommendations are requested from the public on the proposed CE redesign. The proposed new design described here may change based on input from the public.

The BLS welcomes comments on any aspect of the CE redesign but is especially interested in comments on:

• Enhancements or limitations the proposed new design will have on the use of the data.

• Features of the new design that are particularly appealing or problematic.

• Information and lead time that would be needed prior to the implementation of the new design to aid users in adapting to the new design.

Signed at Washington, DC, this 28th day of January 2014.
Kimberley Hill,
Chief, Division of Management Systems, Bureau of Labor Statistics.

[FR Doc. 2014-02028 Filed 1-30-14; 8:45 am]

BILLING CODE 4510-24-P